DEPARTMENT OF HEALTH AND HUMAN SERVICES

Administration on Aging

Availability of Funding Opportunity Announcement; Alzheimer's Disease Demonstration Grants to States (ADDGS) Program

Announcement Type: Initial Announcement.

Funding Opportunity Number: HHS-2007-AoA-AZ-0703.

Statutory Authority: Sec. 398 of the Public Health Service Act (Pub. L. 78-410; 42 U.S.C. 280c-3), amended by the Home Health Care and Alzheimer's Disease Amendments of 1990 (Pub. L. 101-557) and by the Health Professions Education Partnerships Act of 1998 (Pub. L. 105-392).

Catalog of Federal Domestic Assistance (CFDA) Number: 93.051, Alzheimer's Disease Demonstration Grants to States (ADDGS) Program.

Dates: The deadline date for the submission of applications is May 14, 2007.

I. Funding Opportunity Description

This announcement seeks proposals for the ADDGS Program's mission to expand the availability of diagnostic and support services for persons with Alzheimer's disease, their families, and their caregivers, as well as improve the responsiveness of the home and community based care system to persons with dementia. The program focuses on serving hard-to-reach and underserved people with Alzheimer's disease or related disorders (ADRD). A detailed description of the funding opportunity may be found at http://www.aoa.gov/doingbus/fundopp/fundopp.asp.

II. Award Information

1. Funding Instrument Type: Grant.

2. Anticipated Total Priority Area Funding per Budget Period. AoA intends to make available, under this program announcement, grant awards for up to twenty-three (23) projects at a federal share of approximately $250,000-$325,000 for one year.

III. Eligibility Criteria and Other Requirements

1. Eligible Applicants

This is a limited grant competition. Eligibility for grant awards is limited to agencies of State Government; only one application per state will be funded. These 1-year grant options are available to all States that will not be receiving ADDGS funds as of July 1, 2007 or operating under a no-cost extension as of July 1, 2007.

2. Cost Sharing or Matching

Under this program, AoA will fund no more than 75 percent of the project's total cost. Grantees are required to provide at least 25 percent of the total program costs from non-federal cash or in-kind resources in order to be considered for the award.

3. DUNS Number

[All grant applicants must obtain a D-U-N-S number from Dun and Bradstreet. It is a nine-digit identification number, which provides unique identifiers of single business entities. The D-U-N-S number is free and easy to obtain from http://www.dnb.com/US/duns_update/]

4. Intergovernmental Review

Executive Order 12372, Intergovernmental Review of Federal Programs, is not applicable to these grant applications.

IV. Application and Submission Information

Address To Request Application

Application materials are available online at http://www.grants.gov.

1. Submission Requirements

Applications must be submitted electronically to http://www.grants.gov. In order to be able to submit the application, you must register in the Central Contractor Registry (CCR) database. Information about CCR is available at http://www.grants.gov/CCRRegister.

2. Submission Dates and Times

To receive consideration, applications must be submitted electronically by midnight, Eastern time, by the deadline listed in the “Dates” section of this Notice.

V. Responsiveness Criteria

Each application submitted will be screened to determine whether it was received by the closing date and time.

Applications received by the closing date and time will be screened for completeness and conformity with the requirements outlined in Sections III and IV of this Notice and the Program Announcement. Only complete applications that meet these requirements will be reviewed and evaluated competitively.

VI. Application Review Information

Eligible applications in response to this announcement will be reviewed according to the following evaluation criteria: Purpose and Need for Assistance (10 points); Approach/Method—Workplan and Activities (40 points); Outcomes/Benefits/Impacts (25 points); and Level of Effort, Program Management, Organizational Capacity (25 points).

VII. Agency Contacts

Direct inquiries regarding programmatic issues to U.S. Department of Health and Human Services, Administration on Aging, Office of Community-Based Services, Washington, DC 20201, telephone: 202-357-3452.

Dated: April 6, 2007.
Josefina G. Carbonell,
Assistant Secretary for Aging.

[FR Doc. E7-6877 Filed 4-11-07; 8:45 am]

BILLING CODE 4154-01-P